DEPARTMENT OF JUSTICE

Notice of Lodging of Consent Decree Under the Comprehensive Environmental Response, Compensation and Liability Act (“CERCLA”)

Pursuant to section 122(d)(2) of CERCLA, 42 U.S.C. 9622(d)(2), notice is hereby given that on July 27, 2000, a proposed Consent Decree in United States v. Ware Shoals Power & Water, Inc., and Nancy T. Benton, Civil Action No. 8-99-2346-13, was lodged with the United States District Court for the District of South Carolina.

In this action the United States sought to recover response costs incurred by the Environmental Protection Agency (“EPA”) during the performance of a response action to address releases and threatened released of hazardous substances at the Ware Shoals Dyeing and Printing Superfund Site in Ware Shoals, South Carolina. The Decree resolves the liability of Defendants Ware Shoals Power & Water, Inc., and Nancy T. Benton (collectively “Defendants”), for these costs. The Defendants collectively will pay $55,000 to the Hazardous Substances Superfund in reimbursement of EPA's costs. In addition, Defendant Ware Shoals will convey the Site property to the Town of Ware Shoals by deed for a purchase price of no more than $10. The Department of Justice will receive for a period of thirty (30) days from the date of this publication comments relating to the Consent Decree. Comments should be addressed to the Assistant Attorney General, Environment and Natural Resources Division, P.O. Box 7611, U.S. Department of Justice, Washington, DC 20044-7611, and should refer to United States v. Ware Shoals Power & Water, Inc., and Nancy T. Benton, D.J. Ref. 90-11-3-06634.

The Consent Decree may be examined at the Office of the United States Attorney, District of South Carolina, 105 North Spring Street, Suite 200, Greenville, South Carolina 29601, and at EPA Region 4, Atlanta Federal Center, 61 Forsyth Street, SW., Atlanta, Georgia 30303. A copy of the Consent Decree may also be obtained by mail from the Consent Decree Library, P.O. Box 7611, U.S. Department of Justice, Washington, DC 20044-7611. In requesting a copy, please enclose a check in the amount of $5.75 (25 cents per page repoduction cost) payable to the Consent Decree Library.

Joel M. Gross,
Chief, Environmental Enforcement Section, Environment & Natural Resources Division.

[FR Doc. 00-20298 Filed 8-9-00; 8:45 am]

BILLING CODE 4410-15-M